DEPARTMENT OF THE INTERIOR

Fish and Wildlife Service

[FWS-R4-R-2008-N0017; 40136-1265-0000-S3]

Tennessee National Wildlife Refuge, Henry, Benton, Decatur, and Humphreys Counties, TN

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for Tennessee National Wildlife Refuge. We provide this notice in compliance with our CCP policy to advise other agencies, Tribes, and the public of our intentions, and to obtain suggestions and information on the scope of issues to consider in the planning process.

DATES: To ensure consideration, we must receive your written comments by May 19, 2008. We will announce opportunities for public input in local news media throughout the CCP planning process.

ADDRESSES: Send your comments or requests for more information to: John Taylor, Refuge Manager, Tennessee National Wildlife Refuge, 3006 Dinkins Lane, Paris, TN 38242.

FOR FURTHER INFORMATION CONTACT: John Taylor; Telephone: 731/642-2091.

SUPPLEMENTARY INFORMATION:

Introduction

With this notice, we initiate our process for developing a CCP for Tennessee National Wildlife Refuge in Henry, Benton, Decatur, and Humphreys Counties. We provide this notice in compliance with our planning policy to (1) advise other Federal and State agencies and the public of our intention to conduct detailed planning on the refuge, and (2) obtain suggestions and information on the scope of topics to consider in the environmental document and during development of the CCP.

Background

The National Wildlife Refuge System Improvement Act of 1997 (16 U.S.C. 668dd-668ee) which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

We establish each unit of the National Wildlife Refuge System for specific purposes. We use these purposes as the bases to develop and prioritize management goals and objectives for the refuge within the National Wildlife Refuge System mission, and to determine how the public can use the refuge. The planning process is a way for us and the public to evaluate management goals and objectives for the best possible conservation approach to this important wildlife habitat, while providing for wildlife-dependent recreation opportunities that are compatible with the refuge's establishing purposes and the mission of the National Wildlife Refuge System.

Our CCP process provides opportunities for Tribal, State, and local governments; agencies; organizations; and the public to participate. At this time we encourage the public to provide input in the form of issues, concerns, ideas, and suggestions for the future management of Tennessee National Wildlife Refuge.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Tennessee National Wildlife Refuge was initially established in 1945 by executive order. These lands, around Kentucky Lake, were designated for use by the Department of the Interior as a management area for migratory birds, especially wintering waterfowl and other wildlife. The Department of the Interior and the Tennessee Valley Authority entered into an agreement regarding which lands were to be reserved and managed as a national wildlife refuge. Currently, the refuge manages over 51,000 acres within three units: Big Sandy, Duck River, and Busseltown.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: January 4, 2008.
Jon Andrew,
Acting Regional Director.

[FR Doc. E8-6782 Filed 4-1-08; 8:45 am]

BILLING CODE 4310-55-P